DEPARTMENT OF TRANSPORTATION

Federal Motor Carrier Safety Administration

[Docket No. FMCSA-2012-0031]

Agency Information Collection Activities; Extension of Two Currently-Approved Information Collection Requests: Financial and Operating Statistics for Motor Carriers of Property

AGENCY: Federal Motor Carrier Safety Administration (FMCSA), DOT.

ACTION: Notice and request for comments.

SUMMARY: In accordance with the Paperwork Reduction Act of 1995, this notice announces FMCSA's plan to submit to the Office of Management and Budget (OMB) its request to extend two currently-approved information collection requests (ICRs) as follows: (1) OMB Control Number 2126-0032 entitled, “Annual Report of Class I and Class II Motor Carriers of Property (formerly OMB 2139-0004),” and (2) OMB Control Number 2126-0033 entitled, “Quarterly Report of Class I Motor Carriers of Property (formerly OMB 2139-0002).” These ICRs are necessary to ensure that motor carriers comply with FMCSA's financial and operating statistics requirements at chapter III of title 49 CFR part 369 entitled, “Reports of Motor Carriers.” The agency invites public comment on these ICRs.

DATES: We must receive your comments on or before June 19, 2012.

ADDRESSES: You may submit comments bearing the Federal Docket Management System (FDMS) Docket Number FMCSA-2012-0031 insert new number using any of the following methods:

• Federal eRulemaking Portal: http://www.regulations.gov. Follow the online instructions for submitting comments.

• Fax: 1-202-493-2251.

• Mail: Docket Management Facility; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Ms. Vivian Oliver, Office of Research and Information Technology, Department of Transportation, Federal Motor Carrier Safety Administration, West Building 6th Floor, 1200 New Jersey Avenue SE., Washington, DC 20590-0001. Telephone: 202-366-2974; email Vivian.Oliver@dot.gov.

SUPPLEMENTARY INFORMATION: Background: The Annual Report of Class I and Class II Motor Carriers of Property (Form M) and the Quarterly Report of Class I Motor Carriers of Property (Form QFR) are mandated reporting requirements for all for-hire motor carriers (See 49 U.S.C. 14123; and implementing FMCSA regulations at 49 CFR part 369). The Secretary of Transportation (Secretary) has exercised his discretion under section 14123 to also require Class I property carriers (including dual-property carriers), Class I household goods carriers and Class I passenger carriers to file quarterly reports. Motor carriers (including interstate and intrastate) subject to the Federal Motor Carrier Safety Regulations are classified on the basis of their gross carrier operating revenues.¹

¹ For purposes of the Financial and Operating Statistics (F&OS) program, carriers are classified into the following three groups: (1) Class I carriers are those having annual carrier operating revenues (including interstate and intrastate) of $10 million or more after applying the revenue deflator formula as set forth in Note A of 49 CFR 369.2; (2) Class II carriers are those having annual carrier operating revenues (including interstate and intrastate) of at least $3 million, but less than $10 million after applying the revenue deflator formula as set forth in 49 CFR 369.2; and (3) Class III carriers are those having annual carrier operating revenues (including interstate and intrastate) of less than $3 million after applying the revenue deflator formula as set forth in Note A of 49 CFR 369.2.

Under the Financial and Operating Statistics (F&OS) program, FMCSA collects from Class I and Class II property carriers balance sheet and income statement data along with information on safety needs, tonnage, mileage, employees, transportation equipment, and other related data. FMCSA may also ask carriers to respond to surveys concerning their operations. The data and information collected would be made publicly available and used by FMCSA to determine a motor carrier's compliance with the F&OS program requirements prescribed at chapter III of title of 49 CFR part 369.

The regulations were formerly administered by the Interstate Commerce Commission and later transferred to the Secretary on January 1, 1996, by section 103 of the ICC Termination Act of 1995 (Pub. L. 104-88, 109 Stat. 803 (Dec. 29, 1995)), now codified at 49 U.S.C. 14123. On September 30, 1998, the Secretary delegated and transferred the authority to administer the F&OS program to the former Bureau of Transportation Statistics (BTS), now part of the Research and Innovative Technology Administration (RITA), to former chapter XI, subchapter B of 49 CFR part 1420 (63 FR 52192).

On September 29, 2004, the Secretary transferred the responsibility for the F&OS program from BTS to FMCSA in the belief that the program was more aligned with FMCSA's mission and its other motor carrier responsibilities (69 FR 51009). On August 10, 2006, the Secretary published a final rule (71 FR 45740) that transferred and redesignated certain motor carrier financial and statistical reporting regulations of BTS, that were formerly located at chapter XI, subchapter B of title 49 CFR part 1420, to FMCSA under chapter III of title 49 CFR part 369.

FMCSA plans to initiate a regulatory proceeding in the near future that will result in the elimination of two quarterly reporting requirements that are currently reported to OMB under the Paperwork Reduction Act (PRA) of 1995 (44 U.S.C. 3501-3520). These forms include: (1) Form QFR Quarterly for property carriers, authorized by OMB under information collection 2126-0033; and (2) the Class I passenger carrier financial quarterly survey (MP-1 Quarterly), authorized by OMB under information collection 2126-0031. The FMCSA does not have the statutory authority to eliminate the annual reporting requirements for property or passengers. FMCSA will be publishing a direct final rule that will include additional information, including the reduced paperwork burden, resulting from this future action.

Title: Annual Report of Class I and Class II Motor Carriers of Property (formerly OMB Control Number 2139-0004).

New OMB Control Number: 2126-0032.

Type of Request: Extension of a currently-approved information collection.

Respondents: Class I and Class II Motor Carriers of Property.

Estimated Number of Respondents: 197 (per year).

Estimated Time per Response: 9 hours.

Expiration Date: September 30, 2012.

Frequency of Response: Annually.

Estimated Total Annual Burden: 1,773 hours [197 respondents × 9 hours to complete form = 1,773].

Title: Quarterly Report of Class I Motor Carriers of Property (formerly OMB Control Number 2139-0002).

New OMB Control Number: 2126-0033.

Type of Request: Extension of a currently-approved information collection.

Respondents: Class I Motor Carriers of Property.

Estimated Number of Respondents: 111.

Estimated Time per Response: 1.8 hours (27 minutes per quarter).

Expiration Date: September 30, 2012.

Frequency of Response: Quarterly.

Estimated Total Annual Burden: 200 hours [111 respondents × 1.8 hours to complete forms = 200].

Public Comments Invited: You are asked to comment on any aspect of this information collection, including: (1) Whether the proposed collection is necessary for the agency to perform its mission; (2) the accuracy of the estimated burden; (3) ways for FMCSA to enhance the quality, usefulness, and clarity of the collected information; and (4) ways that the burden could be minimized without reducing the quality of the collected information. The agency will summarize or include your comments in the request for OMB's clearance of this information collection.

Issued on: April 12, 2012.
Kelly Leone,
Associate Administrator for Office of Research and Information Technology.

[FR Doc. 2012-9548 Filed 4-19-12; 8:45 am]

BILLING CODE 4910-EX-P